DEPARTMENT OF DEFENSE

GENERAL SERVICES ADMINISTRATION

NATIONAL AERONAUTICS AND SPACE ADMINISTRATION

[OMB Control No. 9000-0035; Docket No. 2024-0053; Sequence No. 14]

Submission for OMB Review; Claims and Appeals

AGENCY: Department of Defense (DOD), General Services Administration (GSA), and National Aeronautics and Space Administration (NASA).

ACTION: Notice.

SUMMARY: Under the provisions of the Paperwork Reduction Act, the Regulatory Secretariat Division has submitted to the Office of Management and Budget (OMB) a request to review and approve an extension of a previously approved information collection requirement regarding claims and appeals.

DATES: Submit comments on or before December 2, 2024

ADDRESSES: Written comments and recommendations for this information collection should be sent within 30 days of publication of this notice to www.reginfo.gov/public/do/PRAMain. Find this particular information collection by selecting “Currently under Review—Open for Public Comments” or by using the search function.

FOR FURTHER INFORMATION CONTACT: Zenaida Delgado, Procurement Analyst, at telephone 202-969-7207, or zenaida.delgado@gsa.gov.

SUPPLEMENTARY INFORMATION:

A. OMB Control Number, Title, and Any Associated Form(s)

9000-0035, Claims and Appeals.

B. Need and Uses

This clearance covers the information that contractors must submit to comply with the following Federal Acquisition Regulation (FAR) requirements:

FAR 52.233-1, Disputes. This clause requires contractors to submit a claim in writing to the contracting officer for a written decision. For any claim exceeding $100,000, contractors must provide a certification that (1) the claim is made in good faith; (2) supporting data are accurate and complete; and (3) the amount requested accurately reflects the contract adjustment for which the contractor believes the Government is liable. Contractors may appeal the contracting officer's decision by submitting written appeals to the appropriate officials.

If the contractor refuses the Government's offer to use alternative dispute resolution (ADR), the contractor must inform the contracting officer, in writing, of the contractor's specific reasons for rejecting the offer.

The contracting officer will use the information to decide the disposition of the claim.

C. Annual Burden

Respondents: 4,500.

Total Annual Responses: 13,500.

Total Burden Hours: 13,500.

D. Public Comment

A 60-day notice was published in the Federal Register at 89 FR 70189, on August 29, 2024. No comments were received.

Obtaining Copies: Requesters may obtain a copy of the information collection documents from the GSA Regulatory Secretariat Division by calling 202-501-4755 or emailing GSARegSec@gsa.gov. Please cite OMB Control No. 9000-0035, Claims and Appeals.

Janet Fry,
Director, Federal Acquisition Policy Division, Office of Governmentwide Acquisition Policy, Office of Acquisition Policy, Office of Governmentwide Policy.

[FR Doc. 2024-25491 Filed 10-31-24; 8:45 am]

BILLING CODE 6820-EP-P